DEPARTMENT OF COMMERCE

International Trade Administration

[A-570-880]

Notice of Final Determination of Sales at Less Than Fair Value: Barium Carbonate From the People's Republic of China

AGENCY: Import Administration, International Trade Administration, Department of Commerce.

ACTION: Notice of final determination of sales at less than fair value.

EFFECTIVE DATE: August 5, 2003.

SUMMARY: We determine that barium carbonate from the People's Republic of China (PRC) is being sold, or is likely to be sold, in the United States at less than fair value (LTFV), as provided in section 735 of the Tariff Act of 1930, as amended the Act. The estimated margins of sales at LTFV are shown in the Final Determination of Investigation section of this notice.

FOR FURTHER INFORMATION CONTACT: David Layton or Tisha Loeper-Viti at (202) 482-0371 or (202) 482-7425, respectively; AD/CVD Enforcement, Office 5, Group II, Import Administration, Room 1870, International Trade Administration, U.S. Department of Commerce, 14th Street and Constitution Avenue, NW., Washington, DC 20230.

SUPPLEMENTARY INFORMATION:

Case History

The preliminary determination in this investigation was published on March 17, 2003. See Notice of Preliminary Determination of Sales at Less Than Fair Value and Postponement of Final Determination: Barium Carbonate from the People's Republic of China, 68 FR 12664 (March 17, 2003) (Preliminary Determination). Since the preliminary determination, the following events have occurred.

We conducted verification of the questionnaire responses of Qingdao Red Star Chemical Import & Export Co., Ltd. (Qingdao Red Star)¹ from June 25 through June 30, 2003. Qingdao Red Star filed surrogate value information and data on April 23 and 28, 2003, and the petitioner ² filed surrogate value information and data on April 28, 2003. Because of the unique circumstances surrounding this investigation, which led to a delay in the scheduling of verification,³ and because both parties also suggested surrogate information after the regulatory deadline for filing such information, we have accepted the information for consideration in this final determination.

¹ Guizhou Red Star Development Co., Ltd. (Guizhou Red Star), was the producer of the subject merchandise sold by Qingdao Red Star during the period of investigation (POI).

² The petitioner is Chemical Products Corporation.

³ There was a delay in conducting the verification due to the SARS epidemic in the PRC.

On July 18, 2003, Qingdao Red Star and the petitioner filed case briefs. Both parties filed rebuttal briefs on July 23, 2003. A public hearing was held on July 25, 2003.

Scope of Investigation

The merchandise covered by this investigation is barium carbonate, regardless of form or grade. The product under investigation is currently classifiable under subheading 2836.60.0000 of the Harmonized Tariff Schedule of the United States (HTSUS). Although the HTSUS subheading is provided for convenience and customs purposes, the written description of the scope of this proceeding is dispositive.

Period of Investigation (POI)

The POI is January 1, 2002, through June 30, 2002.

Analysis of Comments Received

All issues raised in the case and rebuttal briefs by parties to this proceeding and to which we have responded are listed in the Appendix to this notice and addressed in the Issues and Decision Memorandum, which is hereby adopted by this notice. Parties can find a complete discussion of the issues raised in this investigation and the corresponding recommendations in this public memorandum which is on file in the Central Records Unit (CRU), room B-099 of the main Department building. In addition, a complete version of the Issues and Decision Memorandum can be accessed directly on the Internet at http://ia.ita.doc.gov. The paper copy and electronic version of the Issues and Decision Memorandum are identical in content.

Non-Market Economy

The Department has treated the PRC as a non-market economy (NME) country in all its past antidumping investigations. See e.g., Notice of Final Determination of Sales at Less Than Fair Value: Ferrovanadium from the People's Republic of China, 67 FR 71137, 71138 (Nov. 29, 2002); and Notice of Final Determination of Sales at Less Than Fair Value: Certain Circular Welded Carbon-Quality Steel Pipe from the People's Republic of China, 67 FR 36570, 36571 (May 24, 2002). An NME country designation remains in effect until it is revoked by the Department. See section 771(18)(C) of the Act. The respondent in this investigation has not requested revocation of the PRC's NME status. Therefore, we have continued to treat the PRC as an NME country in this investigation. For further details, see the Preliminary Determination.

Separate Rates

In our Preliminary Determination, we found that Qingdao Red Star met the criteria for the application of a separate, company-specific antidumping duty rate. We have not received any other information since the preliminary determination which would warrant reconsideration of our separates rates determination with respect to this company. For a complete discussion of the Department's determination that the respondent is entitled to a separate rate, see the Preliminary Determination.

The PRC-Wide Rate

In the preliminary determination, we found that the use of the PRC-wide rate was appropriate for other exporters in the PRC based on our presumption that those respondents who failed to demonstrate entitlement to a separate rate constitute a single enterprise under common control by the Chinese government. We applied facts otherwise available in calculating the PRC-wide rate because no other Chinese producer or exporter responded to our requests for information. We found that the failure of parties at issue to respond significantly impedes this proceeding because the Department cannot accurately determine a margin for these parties and causes the Department to find that these parties failed to cooperate by not acting to the best of their ability to comply with a request for information. Therefore, in applying facts otherwise available for the calculation of the PRC-rate, pursuant to section 776(b) of the Act we have used “information that is adverse to the interests of that party as facts otherwise available.” Adverse inferences are appropriate “to ensure that the party does not obtain a more favorable result by failing to cooperate than if it had cooperated fully.” See Statement of Administrative Action (SAA) accompanying the URAA, H.R. Doc. No. 103-316, at 870 (1994). The PRC-wide rate applies to all entries of the merchandise under investigation except for entries from Qingdao Red Star.

When analyzing the petition for purposes of the initiation, the Department reviewed all of the data upon which the petitioners relied in calculating the estimated dumping margin and determined that the margin in the petition was appropriately calculated and supported by adequate evidence in accordance with the statutory requirements for initiation. In order to corroborate the petition margin for purposes of using it as adverse facts available, we examined the price and cost information provided in the petition in the context of our preliminary determination. For further details, see Memorandum to Gary Taverman, Director, Office 5, from David Layton, Tisha Loeper-Viti and Kristina Boughton, Case Analysts, Re: Corroboration of Secondary Information, dated March 10, 2003, (Corroboration Memorandum). We received no comments on this decision and continue to find in this final determination that the rate contained in the petition, as recalculated, has probative value. With one adjustment for a clerical error, and additional adjustments to the petition information noted below, we have continued to apply this rate in the final determination. For further discussion, see the Preliminary Determination.

Since the preliminary determination, we have obtained new information regarding several surrogate values and factors applied in Chinese production. In order to take into account the more recent information, we recalculated the petition margin using, where possible, revised surrogate values and revised factors to value the petitioner's consumption rates. As a result of this recalculation, the PRC-wide rate is, for the final determination, 81.30 percent. See Corroboration Memorandum, and Memorandum to Gary Taverman, Director, Office 5, from David Layton, Case Analyst, Re: Recalculated PRC-Wide Rate, dated July 30, 2003, (Final PCR-Wide Rate Memo).

Surrogate Country

For purposes of the final determination, we continue to find that India remains the appropriate primary surrogate country for the PRC. For further discussion and analysis regarding the surrogate country selection for the PRC, see the Preliminary Determination. Consistent with the preliminary determination, where we were unable to value factor inputs using surrogate values in India, we have relied on Indonesia as the secondary surrogate country.

Verification

As provided in section 782(i) of the Act, we verified the information submitted by the respondents for use in our final determination. We used standard verification procedures including examination of relevant accounting and production records, and original source documents provided by the respondents. For changes from the Preliminary Determination as a result of verification, see the Changes Since the Preliminary Determination section, below. See also Memorandum from Scott Lindsay and Kristina Boughton, International Trade Compliance Analysts to Gary Taverman, Office Director: Verification of Sales and Factors of Production Data Submitted by Qingdao Red Star Chemical Import & Export Co., Ltd., dated July 11, 2003.

Changes Since the Preliminary Determination

Based on our findings at verification and on our analysis of the comments received, we have made the following adjustments to the calculation methodologies used in the preliminary determination. These adjustments are discussed in detail in the Issues and Decision Memorandum and in the Memorandum to Gary Taverman, Director, Office 5, from Tisha Loeper-Viti, International Trade Compliance Analyst, Re: Factors of Production Valuation for Final Determination, dated July 30, 2003, (Factors of Production Memorandum).

1. We have valued carbon dioxide as a direct input of Qingdao Red Star's barium carbonate production, instead of the upstream inputs used in Qingdao Red Star's self-produced carbon dioxide. See Issues and Decision Memorandum at Comment 3.

2. We valued an additional raw material input that was not valued in the preliminary determination. See id. at Comment 4.

3. We valued the financial ratios on the basis of a single Indian producer of barium carbonate for a fiscal year more contemporaneous with the POI. See id. at Comment 6.

4. We used recalculated consumption ratios for all factors based on the total production of barium carbonate during the POI including “off-grade” barium carbonate. See id. at Comment 5.

5. We updated the valuation of rail freight charges using a different source for rail rates. See id. at Comment 7.

6. We updated the valuation of truck freight rates. See id. at Comment 8.

7. We deducted from U.S. price an amount for brokerage and handling charges. See id. at Comment 9.

8. We deducted from U.S. price an amount for seaport charges. See Factors of Production Memorandum.

9. We updated all surrogate values based on the Monthly Statistics of the Foreign Trade of India. See id.

10. As a result of verification findings, we adjusted the reported direct labor hours to account for contract labor. See the Factors of Production Memorandum.

11. We corrected our calculation of electricity. See the Factors of Production Memorandum.

12. We corrected a ministerial error from the preliminary determination, where we inadvertently failed to weight-average U.S. prices in the margin calculation. See Issues and Decision Memorandum at Comment 10.

Continuation of Suspension of Liquidation

In accordance with section 735(c)(1)(B)(ii) of the Act, we are directing the U.S. Bureau of Customs and Border Protection (BCBP) to continue the suspension of liquidation of entries of subject merchandise from the PRC, that are entered, or withdrawn from warehouse, for consumption on or after March 17, 2003 (the date of publication of the Preliminary Determination in the Federal Register). We will instruct the BCBP to require a cash deposit or the posting of a bond equal to the weighted-average amount by which normal value exceeds the U.S. price, as indicated in the chart below. These suspension of liquidation instructions will remain in effect until further notice.

Final Determination of Investigation

We determine that the following weighted-average percentage margins exist for the period January 1, 2002 through June 30, 2002:

Manufacturer/exporter | Weighted- average margin (percent)
Qingdao Red Star Chemical Import & Export Co | 34.44
PRC-Wide Rate | 81.30

The PRC-wide rate applies to all entries of the merchandise under investigation except for entries from Qingdao Red Star.

International Trade Commission Notification

In accordance with section 735(d) of the Act, we have notified the International Trade Commission (ITC) of our determination. As our final determination is affirmative, the ITC will determine, within 45 days, whether these imports are materially injuring, or threaten material injury to, the U.S. industry. If the ITC determines that material injury, or threat of material injury does not exist, the proceeding will be terminated and all securities posted will be refunded or cancelled. If the ITC determines that such injury does exist, the Department will issue an antidumping duty order directing BCBP officials to assess antidumping duties on all imports of subject merchandise entered for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: July 30, 2003.
Joseph A. Spetrini,
Acting Assistant Secretary for Grant Aldonas, Under Secretary.

Appendix—Decision Memorandum

Comment 1: Surrogate Value of Barite Ore

Comment 2: Surrogate Values of Two Types of Coal

Comment 3: Valuation of Carbon Dioxide

Comment 4: Valuation of a Minor Input

Comment 5: Granting Offsets for Byproducts

Comment 6: Calculation of Financial Ratios

Comment 7: Valuation of Rail Freight

Comment 8: Valuation of Truck Freight

Comment 9: Deduction of Brokerage and Handling

Comment 10: Use of Weighted-Average U.S. Prices in Margin Calculation

Comment 11: Reported Consumption of Coal 1

Comment 12: Consumption Quantity Questions

[FR Doc. 03-20044 Filed 8-5-03; 8:45 am]

BILLING CODE 3510-DS-P